DEPARTMENT OF THE INTERIOR

Bureau of Land Management

[L12200000.MV0000/LLCAC05000]

Notice of Interim Final Supplementary Rules for Public Lands Managed by the Ukiah Field Office in Lake, Sonoma, Mendocino, Glenn, Colusa, Napa, Marin, Yolo, and Solano Counties, CA

AGENCY: Bureau of Land Management, Interior.

ACTION: Notice of Interim Final Supplementary Rules.

SUMMARY: In accordance with the Record of Decision (ROD) for the Ukiah Field Office Approved Resource Management Plan (RMP), the Bureau of Land Management (BLM), Ukiah Field Office, is issuing interim final supplementary rules and requesting comments. These interim final supplementary rules will apply to public lands within the Ukiah Field Office's jurisdiction. The BLM has determined that these interim final supplementary rules are necessary to enhance visitor safety, protect natural resources, improve recreation opportunities, and protect public health. These rules only implement land use limitations and restrictions that were analyzed in the Ukiah RMP.

DATES: The interim final supplementary rules are effective June 2, 2011 and remain in effect until modified or rescinded by the publication of final supplementary rules. We invite comments until August 1, 2011. Comments postmarked or received in person after this date may not be considered in the development of final supplementary rules.

ADDRESSES: Mail or hand deliver all comments concerning the interim final supplementary rules to the Bureau of Land Management, Ukiah Field Office, 2550 North State Street, Ukiah, CA 95482. The interim final supplementary rules are available for inspection at the Ukiah Field Office and on the Ukiah Field Office Web site: http://www.blm.gov/ca/st/en/fo/ukiah.html.

FOR FURTHER INFORMATION CONTACT: Jonna Hildenbrand, Bureau of Land Management, Ukiah Field Office, 2550 North State Street, Ukiah, California 95482, (707) 468-4024, or e-mail: jhildenb@ca.blm.gov.

SUPPLEMENTARY INFORMATION:

I. Public Comment Procedures

II. Background

III. Procedural Matters

I. Public Comment Procedures

You may mail or hand-deliver comments to Jonna Hildenbrand, Bureau of Land Management, Ukiah Field Office, 2550 North State Street, Ukiah, California 95482, or by e-mail: jhildenb@ca.blm.gov. Written comments on the interim final supplementary rules should be specific, confined to issues pertinent to the interim final supplementary rules, and should explain the reason for any recommended change. Where possible, comments should reference the specific section or paragraph of the rule that the comment is addressing. The BLM may not consider: (a) Comments that the BLM receives after the close of the comment period (see DATES), unless they are postmarked or electronically dated before the deadline, or (b) comments delivered to an address other than that listed above in ADDRESSES.

Comments, including names, addresses, and other contact information of respondents, will be available for public review at the BLM Ukiah Field Office, 2550 North State Street, Ukiah, California 95482, during regular business hours (7:45 a.m. to 4:30 p.m., Monday through Friday, except Federal holidays). Before including your address, telephone number, e-mail address, or other personal identifying information in your comment, you should be aware that your entire comment—including your personal identifying information—may be made publicly available at any time. While you can ask us in your comment to withhold your personal identifying information from public review, we cannot guarantee that we will be able to do so.

II. Background

The BLM is establishing these interim final supplementary rules under the authority of 43 CFR 8365.1-6, which allows BLM State Directors to establish supplementary rules for the protection of persons, property, and public lands and resources. This provision allows the BLM to issue rules of less than national effect without codifying the rules in the Code of Federal Regulations. These interim final supplementary rules apply to public lands managed by the Ukiah Field Office including Lake, Sonoma, Mendocino, Glenn, Colusa, Napa, Marin, Yolo, and Solano Counties of California.

The overall program authority for the operation of this area is found in the Federal Land Policy and Management Act of 1976 (FLPMA, 43 U.S.C. 1701 et seq.). The Ukiah Field Office managed lands are located in Lake, Sonoma, Mendocino, Glenn, Colusa, Napa, Marin, Yolo, and Solano Counties of California.

The BLM finds good cause to publish these supplementary rules on an interim basis, effective the date of publication, because of immediate public health and safety concerns and resource protection needs within the management area. The close proximity to the San Francisco, Oakland, San Jose, and Sacramento Metropolitan areas (10 million people) along with the closures of nearby Federal and state off-highway vehicle (OHV) areas has increased visitation and the duration of visits in the planning area. Incidents of vehicle use off routes, unsafe target shooting practices, and illegal fireworks have led to visitor conflicts, public safety issues, and resource degradation.

Additionally, the BLM recently acquired a coastal property that offers public access to coastal bluffs and the beach, which has increased year round visitation. This property contains habitat for federally-listed threatened and endangered species and borders the Garcia River, a component of an anadromous watershed containing the federally-threatened Central California Coast coho salmon, Northern California steelhead Evolutionary Significant Units (ESU), and California Coastal Chinook salmon ESU. Several BLM special status species are located within the area, and these interim final supplementary rules are needed to conserve critical habitat. The portion of these rules that are specific to the Areas of Critical Environmental Concern (ACEC) are intended to protect the relevant and important resource values within these units and the portion specific to the Scattered Tracts management areas address public health and safety concerns and resource protection.

Maps identifying the management areas and boundaries are included in the RMP. The RMP, including the maps, will be available for inspection at the Ukiah Field Office. All of the interim final supplementary rules implement management decisions in the RMP.

The Ukiah Field Office has taken the following steps to involve the public in developing the plan decisions that provide a basis for the interim final supplementary rules which are consistent with the management direction established in the RMP:

• Scoping for the Ukiah RMP in August, 2004 including public meetings held throughout the planning area.

• 90-day comment period for the Draft RMP/Environmental Impact Statement (EIS) ending December 15, 2009. Five general public meetings and one meeting specifically for local Indian tribes were held.

• A determination by the State of California that the RMP would not conflict with State or local plans or the California Coastal Management Program.

• All public comments were summarized and addressed in the Final EIS and all decisions related to the rules were analyzed in the Final EIS.

Based on extensive prior public participation in the planning process that provided the basis for these rules and immediate public safety and resource protection concerns, including vehicle use off designated routes, unsafe and illegal target shooting, illegal fireworks usage, and protection of resource values (special status species, cultural resources, etc.), the BLM finds good cause to issue these rules as interim final supplementary rules. The public is now invited to provide additional comments on the interim final supplementary rules. See the DATES and ADDRESSES sections for information on submitting comments.

III. Procedural Matters

Executive Order 12866, Regulatory Planning and Review

These interim final supplementary rules are not a significant regulatory action and are not subject to review by the Office of Management and Budget under Executive Order 12866. These interim final supplementary rules will not have an annual effect of $100 million or more on the economy or adversely affect, in a material way, the economy, productivity, competition, jobs, the environment, public health or safety, or state, local or tribal governments or communities. These interim final supplementary rules will not create a serious inconsistency or otherwise interfere with an action taken or planned by another agency. The interim final supplementary rules do not materially alter the budgetary effects of entitlements, grants, user fees, or loan programs or the right or obligation of their recipients; nor do they raise novel legal or policy issues. These rules merely contain rules of conduct for public use of a limited portion of the public lands in California in order to protect human health, safety, and the environment.

Clarity of the Interim Final Supplementary Rules

Executive Order 12866 requires each agency to write regulations that are simple and easy to understand. The BLM invites your comments on how to make these interim final supplementary rules easier to understand, including answers to questions such as the following:

(1) Are the requirements in the interim final supplementary rules clearly stated?

(2) Do the interim final supplementary rules contain technical language or jargon that interferes with their clarity?

(3) Does the format of the interim final supplementary rules (grouping and order of sections, use of headings, paragraphing, etc.) aid or reduce their clarity?

(4) Would the interim final supplementary rules be easier to understand if they were divided into more (but shorter) sections?

(5) Is the description of the interim final supplementary rules in the SUPPLEMENTARY INFORMATION section of this preamble helpful in understanding the interim final supplementary rules? How could this description be more helpful in making the interim final supplementary rules easier to understand?

Please send any comments you have on the clarity of the interim final supplementary rules to the address specified in ADDRESSES section.

National Environmental Policy Act

These interim final supplementary rules do not constitute a major Federal action significantly affecting the quality of the human environment under Section 102(2)(C) of the National Environmental Policy Act of 1969, 42 U.S.C. 4332(2)(C). However, they are a component of a larger plan (Ukiah Field Office RMP) that constitutes a major Federal action. The BLM prepared a Draft and Final EIS on the RMP which includes a complete analysis of each decision corresponding to the interim final supplementary rules. This Draft and Final EIS and the ROD are on file and available to the public at the address specified in ADDRESSES above. The Final EIS and ROD are available at the website specified in ADDRESSES above.

Regulatory Flexibility Act

Congress enacted the Regulatory Flexibility Act (RFA) of 1980, as amended (5 U.S.C. 601-612) to ensure that Government regulations do not unnecessarily or disproportionately burden small entities. The RFA requires a regulatory flexibility analysis if a rule would have a significant economic impact, either detrimental or beneficial, on a substantial number of small entities. The interim final supplementary rules merely establish rules of conduct for public recreational use of a limited area of public lands. Therefore, the BLM has determined under the RFA that these interim final supplementary rules would not have a significant economic impact on a substantial number of small entities.

Small Business Regulatory Enforcement Fairness Act (SBREFA)

These interim final supplementary rules do not constitute a “major rule” as defined at 5 U.S.C. 804(2). These interim final supplementary rules merely contain rules of conduct for recreational use of a limited area of public lands and do not affect commercial or business activities of any kind.

Unfunded Mandates Reform Act

These interim final supplementary rules do not impose an unfunded mandate on state, local, or tribal governments or the private sector of more than $100 million per year; nor do they have a significant or unique effect on state, local, or tribal governments or the private sector. The interim final supplementary rules have no effect on state, local, or tribal governments and do not impose any requirements on any of these entities. Therefore, the BLM is not required to prepare a statement containing the information required by the Unfunded Mandates Reform Act (2 U.S.C. 1531 et seq.).

Executive Order 12630, Governmental Actions and Interference With Constitutionally Protected Property Rights (Takings)

The interim final supplementary rules do not represent a government action capable of interfering with constitutionally protected property rights. The interim final supplementary rules do not address property rights in any form and do not cause the impairment of one's property rights. Therefore, the BLM has determined that these interim final supplementary rules would not cause a “taking” of private property or require further discussion of takings implications under this Executive Order.

Executive Order 13132, Federalism

The interim final supplementary rules will not have a substantial direct effect on the states, on the relationship between the national government and the states, or on the distribution of power and responsibilities among the various levels of government. The interim final supplementary rules affect land in the State of California, and do not conflict with any California state law or regulation. Therefore, in accordance with Executive Order 13132, the BLM has determined that these interim final supplementary rules do not have sufficient Federalism implications to warrant preparation of a Federalism Assessment.

Executive Order 12988, Civil Justice Reform

Under Executive Order 12988, the California State Office of the BLM has determined that these interim final supplementary rules will not unduly burden the judicial system and that they meet the requirements of sections 3(a) and 3(b)(2) of the Order.

Executive Order 13175, Consultation and Coordination With Indian Tribal Governments

In accordance with Executive Order 13175, the BLM has found that these interim final supplementary rules do not include policies that have tribal implications. The interim final supplementary rules do not affect lands held for the benefit of Indians, Aleuts, or Eskimos, Indian resources, or tribal property rights. To comply with Executive Orders regarding government-to-government relations with Native Americans, formal and informal contacts were made with 26 federally recognized tribes and 2 non-recognized tribal governments with interests in the affected area. The tribes were provided with a copy of the Draft RMP. In addition, the BLM contacted each tribe directly requesting comments and assessing the need for a tribal briefing. The tribes expressed no concerns about the RMP or the decisions related to these interim final supplementary rules.

Information Quality Act

The Information Quality Act (Section 515 of Pub. L. 106-554) requires Federal agencies to maintain adequate quality, objectivity, utility, and integrity of the information that they disseminate. In developing these interim final supplementary rules, the BLM did not conduct or use a study, experiment, or survey or disseminate any information in developing these supplementary rules.

Executive Order 13211, Effects on the Nation's Energy Supply

These supplementary rules do not comprise a “significant energy action,” as defined in Executive Order 13211. The rules will not have a significant adverse effect on supplies, production, or consumption and have no connection with energy policy.

Paperwork Reduction Act

These interim final supplementary rules do not contain information collection requirements that the Office of Management and Budget must approve under the Paperwork Reduction Act, 44 U.S.C. 3501 et seq.

Author

The principal author of these interim final supplementary rules is Rich Burns, Field Manager, Ukiah Field Office.

For the reasons stated in the preamble and under the authority for supplementary rules found in 43 CFR 8365.1-6, the California State Director, Bureau of Land Management, issues supplementary rules, effective on an interim final basis upon publication, for public lands managed by the Ukiah Field Office to read as follows:

Supplementary Rules for All Lands Within the Jurisdiction of the Ukiah Field Office

Section 1. Definitions

Camping means the use of tents or shelters of natural or synthetic material, preparing a sleeping bag or other bedding material for use, or mooring of a vessel, or parking a vehicle or trailer for the apparent purpose of overnight occupancy.

Cave Resource means any material or substance occurring naturally in caves on Federal lands, such as animal or plant material, paleontological deposits, sediments, minerals, speleogens (bedrock formations), and speleothems (secondary mineral deposits).

Cliff means a very steep, vertical, or overhanging face of rock or earth.

Climbing means all-gear assisted and non-gear assisted ascent or descent, especially by using both hands and feet.

Firearm means any device designed to be used as a weapon, from which a projectile by the force of an explosion or other form of combustion is expelled through a barrel.

Fireworks means a device for producing a striking display by the combustion of explosive or flammable compositions including those that are defined as legal for sale within the State of California, also known as “safe and sane” fireworks.

Frontcountry means an area that represents a broad mix of uses.

Hang Gliding and Paragliding means the use of all non-motorized, foot-launched aircraft.

Hunting means the pursuit of game by any person in possession of a current legal California hunting license in accordance with State law.

Motorized Vehicle means any vehicle which is self-propelled or propelled by electric or gas power.

Middlecountry means an area generally with naturally appearing landscape except for obvious primitive roads.

Off-Highway Vehicle (OHV) means any motorized vehicle capable of, or designed for, travel on or immediately over land, water, or other natural terrain.

Open Fire means all fire with an exposed flame such as wood fires, campfires, charcoal barbecues, or camp stoves outside of fire rings in designated developed recreational sites.

Projectile means any bullet, ball, sabot, slug, buckshot, arrow, or other object which is propelled from a device.

Recreation Opportunity Spectrum (ROS) means a method of inventorying existing physical and social conditions.

Shooting means the discharge of a weapon for non-hunting purposes.

Sink Hole means a natural depression or hole in the surface topography caused by the removal of soil or bedrock by water.

Street Legal Vehicle means any vehicle subject to registration under the California Vehicle Code (Section 4000 (a)).

Weapon means any firearm, crossbow, bow and arrow, air or gas paintball gun, fireworks or explosive device capable of propelling a projectile by means of an explosion, compressed air, or by string or spring.

Section 2 Interim Final Supplementary Rules of Conduct

The following rules apply year round to all visitors unless explicitly stated otherwise in a particular rule. The following persons are exempt from these interim final supplementary rules: any Federal, state, or local officer or employee acting in the scope of their duties; members of any organized rescue or fire-fighting force in performance of an official duty; and any person whose activities are authorized in writing by the BLM Authorized Officer.

a. The following rules apply to all lands within the Ukiah Field Office jurisdiction.

1. All routes are closed to motorized vehicles unless designated as open within the RMP.

2. The use or possession of fireworks is prohibited.

3. Hunting is allowed except where specifically prohibited.

b. The following rules apply to all designated Scattered Tracts Management Areas within the jurisdiction of the Ukiah Field Office.

The use of weapons is prohibited except when hunting.

Common to All Scattered Tracts Management Areas

Scattered Tracts are BLM lands covered by the RMP but are not a part of any other management area. Scattered tracts total approximately 47,000 acres and are found in every county containing public lands within the Ukiah Field Office area of jurisdiction.

c. The following rules apply to all designated Areas of Critical Environmental Concern (ACEC) within the jurisdiction of the Ukiah Field Office.

Common to All ACECs

It is prohibited to deface, remove, or destroy plants or their parts, soil, rocks, minerals, or cave resources within the following ACECs: Lost Valley—40 acres (Cow Mountain Management Area, Mendocino County), Knoxville—5,236 acres (Knoxville Management Area, Lake County), Walker Ridge—3,685 acres (Indian Valley Management Area, Lake and Colusa counties), Indian Valley Brodiaea—100 acres (Indian Valley Management Area, Lake County), Cache Creek—11,228 acres (Cache Creek Management Area, Lake, Colusa, and Yolo counties), Northern California Chaparral Research Area—11,206 acres (Cache Creek Management Area, Lake County), Cedar Roughs Research Natural Area—6,350 acres (Scattered Tracts Management Area, Napa County), Stornetta—887 acres (Stornetta Management Area, Mendocino County), Black Forest—247 acres (Scattered Tracts Management Area, Lake County), and The Cedars of Sonoma County—1,500 acres (Scattered Tracts Management Area, Sonoma County).

d. The following rules apply to Cache Creek, Cow Mountain, Knoxville, Geysers, Indian Valley, Black Forest, the Cedars of Sonoma County and Stornetta Management Areas within the jurisdiction of the Ukiah Field Office.

Cache Creek Management Area

Cache Creek encompasses approximately 73,000 acres of public land. It includes the Cache Creek Natural Area and the Cache Creek Wilderness Area. Cowboy Camp is a developed recreation site comprised of a day use area, an overnight parking area, and the group camp site. High Bridge is a developed recreation site comprised of a day use area and overnight parking area.

1. Use of weapons is prohibited except when hunting.

2. Defacing, removing, or destroying plants or their parts, soil, rocks, minerals, or cave resources is prohibited.

3. Vehicles and horses are allowed in the Cowboy Camp group camp site from the third Saturday in April through the third Saturday in November.

4. Camping is limited to the group camp site within the Cowboy Camp developed recreation site.

5. High Bridge and Cowboy Camp developed recreation sites are open for day use only from one-half hour before sunrise to one-half hour after sunset except for long-term parking for overnight backcountry visitors.

Cow Mountain Management Area

Cow Mountain is comprised of approximately 51,000 acres of public lands and divided into North and South Cow Mountain. The use of weapons is limited to designated shooting areas except when hunting.

South Cow Mountain OHV (Portion) of Cow Mountain Management Area

1. Operating a motorized vehicle is prohibited within South Cow Mountain OHV unit during wet weather closures (resulting from accumulated precipitation) or administrative closures.

2. Wet Weather Closure—During periods of seasonal and severe storms (beginning October 1)—When total annual precipitation exceeds four inches and at least one-half inch of precipitation has fallen in 24 hours or one inch in 72 hours the authorized officer has determined that motorized vehicles will cause considerable adverse effects upon the soil, vegetation, wildlife, and other resources. Pursuant to 43 CFR 8341.2 the Ukiah Field Office will implement a temporary closure of all routes to all motorized vehicles for a minimum of three days. Once the area has been closed, a field inspection will be completed prior to reopening and daily thereafter to determine suitability of road and trail conditions. When field observations show that motorized vehicle use can occur without causing considerable adverse effects as described in 43 CFR 8341.2, the temporary closure will be terminated. Exceptions to this temporary closure will only be granted to private landowners who need to access their property. Landowners will only be able to access their property via the most direct route and are not allowed to use a motorized vehicle on any other part of the South Cow Mountain OHV Area. Consistent with 43 CFR 8341.2 this policy is subject to modification due to changing resource conditions.

North Cow Mountain (Portion) of Cow Mountain Management Area

1. The Mendo-Rock Road, Water Tank Spur, Willow Creek Road, Rifle Range Road, Radio Tower Road, Rifle Range Maintenance Spur, and Mayacmas Campground Road are open year round and limited to street legal vehicles only.

2. Routes open during general deer season and limited to street legal vehicles only are Firebreak #1, McClure Creek Ridge Spur, McClure Creek Spur, Sulphur Creek Spur, and Sulphur Creek Ridge Spur.

3. All other routes are closed year round to street legal and motorized vehicles.

Knoxville Management Area

The Knoxville area contains approximately 24,000 acres of public lands.

1. Use of weapons is prohibited except when legally hunting.

2. Adams Ridge Road is open to street legal vehicles during general deer season.

Geysers Management Area

Geysers encompasses about 7,100 acres that are public lands.

Shooting is allowed in ROS zone Middlecountry.

Indian Valley Management Area

Shooting is allowed in ROS zones Middlecountry and Frontcountry.

Black Forest/The Cedars of Sonoma County Management Area

Black Forest includes 247 acres on Mount Konocti just south of Soda Bay on Clear Lake.

The Cedars of Sonoma County includes 1,500 acres and is located two miles northeast of the Austin Creek State Recreation Area. The rules identified for the Black Forest and Cedars of Sonoma are consistent with the management direction established in the RMP.

1. Motorized vehicle use is prohibited.

2. Climbing on the cliffs is prohibited.

3. Use of weapons is prohibited except when hunting.

Stornetta Management Area

The 1,132-acre Stornetta Management Area is located along the Mendocino County coastline just north of the town of Point Arena. The rules identified for the Stornetta Management Area are consistent with the management direction established in the RMP.

1. Use of weapons is prohibited.

2. Hunting is prohibited.

3. Hang gliding or paragliding is prohibited.

4. Camping is prohibited.

5. The area is open for day use only from one-half hour before sunrise to one-half hour after sunset.

6. Use of motorized vehicles is prohibited.

7. Beach access is permitted only at the designated access trails marked by signs. These locations are mile marker 1.4 and 2.3 from the Highway 1 and Lighthouse Road intersection.

8. Climbing on cliffs and in or around sink holes is prohibited.

9. Dogs must be on a leash no longer than six feet or otherwise physically restricted at all times.

10. Open fires are prohibited.

11. Cutting or collecting firewood is prohibited.

12. Feeding or harassing wildlife is prohibited.

13. Physical removal of any resources including, but not limited to, vegetation, animals, driftwood, and shells, is prohibited.

Section 3 Penalties

Any person who violates any of these interim final supplementary rules may be tried before a U.S. Magistrate and fined no more than $1,000 or imprisoned for no more than 12 months, or both. 43 U.S.C. 1733(a); 43 CFR 8360.0-7 and 2932.57(b). Such violations may also be subject to the enhanced fines provided for by 18 U.S.C. 3571.

A. Este Stifel,
Acting Associate State Director.

[FR Doc. 2011-13728 Filed 6-1-11; 8:45 am]

BILLING CODE 4310-40-P